DEPARTMENT OF DEFENSE

Office of the Secretary

[Transmittal Nos. 12-41]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-41 with attached transmittal, and policy justification.

Dated: August 10, 2012.
Aaron Siegel,
Alternate OSD Federal Register Liaison Officer, Department of Defense.

BILLING CODE 5001-06-P

Transmittal No. 12-41

Notice of Proposed Issuance of Letter of Offer Pursuant to Section 36(b)(1) of the Arms Export Control Act, as amended

(i) Prospective Purchaser: Belgium

(ii) Total Estimated Value:

Major Defense Equipment* | $48 million
Other | $40 million
TOTAL | $88 million

(iii) (Description and Quantity or Quantities of Articles or Services under Consideration for Purchase: 240 Block I Javelin Missiles, Command Launch Units (CLU) Missile Simulation Rounds (MSR), Battery Coolant Units (BCU), support equipment, spare and repair parts, personnel training and training equipment, publications and technical data, U.S. Government and contractor technical assistance and other related logistics support.

(iv) Military Department: Army (WDM)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 2 Aug 2012

* as defined in Section 47(6) of the Arms Export Control Act.

BILLING CODE 5001-06-C

Policy Justification

Government of Belgium—Javelin Missiles

The Government of Belgium has requested a possible purchase of 240 Block I Javelin Missiles, Command Launch Units (CLU), Missile Simulation Rounds (MSR), Battery Coolant Units (BCU), support equipment, spare and repair parts, personnel training and training equipment, publications and technical data, U.S. Government and contractor technical assistance and other related logistics support. The estimated cost is $88 million.

This proposed sale will contribute to the foreign policy and national security of the United States by helping to improve the security of a NATO ally who continues to be an important force for the political stability and economic progress in Northern Europe.

The Belgium Army intends to use the Javelin system as part of its overall military modernization program. The Javelin system will replace the Belgium Army's existing MILAN missile system.

The proposed sale of the missiles and support will not alter the basic military balance in the region.

The principal contractors will be Joint Javelin Venture (JJV), a consortium of Raytheon, in Tucson, Arizona, and Lockheed Martin, in Orlando, Florida. There are no known offset agreements proposed in connection with this potential sale.

Implementation of this proposed sale will require 6 U.S. Government or contractor representatives to travel to Belgium for a period of 2 weeks for equipment training.

There will be no adverse impact on U.S. defense readiness as a result of this proposed sale.

Transmittal No. 12-41

Notice of Proposed Issuance of Letter of Offer Pursuant to Section 36(b)(1) of the Arms Export Control Act

Annex

Item No. vii

(vii) Sensitivity of Technology:

1. The Javelin Weapon System's hardware and the documentation provided are unclassified. However, sensitive technology is contained within the system itself. The sensitivity is primarily in the software programs that instruct the system how to operate in the presence of countermeasures. Programs are contained in the system in the form of microprocessors with Read Only Memory (ROM) maps, which do not provide the software program itself. The overall hardware is considered sensitive in that the modulation frequency and infrared wavelengths could be used in countermeasure development. The benefits to be derived from the sale, as outlined in the policy justification of this notification, outweigh the potential damage that could result if technology were to be revealed to unauthorized persons.

2. If a technologically advanced adversary were to obtain knowledge of the specific hardware and software elements, the information could be used to develop countermeasures that might reduce weapon system effectiveness or be used in the development of a system with similar or advanced capabilities.

[FR Doc. 2012-20161 Filed 8-15-12; 8:45 am]

BILLING CODE 5001-06-P